DEPARTMENT OF LABOR

Employment and Training Administration

[TA-W-65,447]

BHP Billiton, BHP Copper, Inc., Pinto Valley Operations & San Manuel Arizona Railroad Company, Miami, AZ; Notice of Termination of Investigation

Pursuant to Section 221 of the Trade Act of 1974, as amended, an investigation was initiated on February 2, 2009 in response to a petition filed by a company official on behalf of all workers of BHP Billiton, BHP Copper, Inc., Pinto Valley Operations & San Manuel Arizona Railroad Company, Miami, Arizona.

The petitioner requested that the petition be withdrawn. Consequently, the investigation has been terminated.

Signed at Washington, DC, this 17th day of March 2009.
Richard Church,
Certifying Officer, Division of Trade Adjustment

[FR Doc. E9-6535 Filed 3-24-09; 8:45 am]

BILLING CODE 4510-FN-P